DEPARTMENT OF HEALTH AND HUMAN SERVICES

Office of the Secretary

[Document Identifier: HHS-OS-20694-30D]

Agency Information Collection Activities; Submission to OMB for Review and Approval; Public Comment Request

AGENCY: Office of the Secretary, HHS.

ACTION: Notice.

SUMMARY: In compliance with section 3507(a)(1)(D) of the Paperwork Reduction Act of 1995, the Office of the Secretary (OS), Department of Health and Human Services, has submitted an Information Collection Request (ICR), described below, to the Office of Management and Budget (OMB) for review and approval. The ICR is for renewal of the approved information collection assigned OMB control number 0990-0162 scheduled to expire on January 31, 2014 Comments submitted during the first public review of this ICR will be provided to OMB. OMB will accept further comments from the public on this ICR during the review and approval period.

DATES: Comments on the ICR must be received on or before January 27, 2014.

ADDRESSES: Submit your comments to OIRA_submission@omb.eop.gov or via facsimile to (202) 395-5806.

FOR FURTHER INFORMATION CONTACT: Information Collection Clearance staff, Information.CollectionClearance@hhs.gov or (202) 690-6162.

SUPPLEMENTARY INFORMATION: When submitting comments or requesting information, please include the OMB control number 0990-0162 and document identifier HHS-OS-20694-30-D for reference.

Information Collection Request Title: State Medicaid Fraud Control Units' Reports.

OMB No.: 0990-0162.

Abstract: Office of Inspector General (OIG) is requesting an extension by Office of Management and Budget (OMB) approval for the collection of information to comply with the requirements in Title 19 of the Social Security Act at 1903(q), 42 CFR 1007.15, and 42 CFR § 1007.17, in accordance with the Paperwork Reduction Act. The information collected consists of fifty separate annual reports and fifty separate application requests for certification/recertification of State Medicaid Fraud Control Units (MFCU). The collection is required by the statute and submitted yearly to OIG by the fifty MFCUs. OIG uses the information collected to determine the MFCUs' compliance with Federal requirements and eligibility for continued Federal financial participation (FFP) under the Federal MFCU grant program.

Need and Proposed Use of the Information: Public Law 95-142, the Medicare-Medicaid Anti-Fraud and Abuse Amendments, was enacted in 1977 to strengthen the capabilities of Federal and State governments to combat and eliminate fraud and abuse in Medicaid, through the establishment of the MFCUs. This law amended section 1903 of the Social Security Act to establish operating requirements for MFCUs and provide FFP to State governments for the cost of establishing MFCUs, training State personnel, and keeping the MFCUs operational.

Under section 1903(q)(7), each MFCU must annually submit to the Secretary of Health and Human Services (Secretary) an application and annual report containing information that the Secretary determines is necessary to certify the MFCU as meeting the requirements for FFP. FFP is available only for activities directly related to the investigation and prosecution of health care providers suspected of committing Medicaid fraud. The MFCUs also review complaints of alleged abuse or neglect of patients and the misuse of patients' personal funds in health care facilities. OIG reviews the information collected to ensure that Federal matching funds are expended by MFCUs only for allowable costs. In addition, OIG analyzes each MFCU's submission to determine whether there is a need for OIG technical assistance and to establish priorities for onsite reviews to further monitor program activities.

Likely Respondents: 50.

Burden Statement: Burden in this context means the time expended by persons to generate, maintain, retain, disclose or provide the information requested. This includes the time needed to review instructions, to develop, acquire, install and utilize technology and systems for the purpose of collecting, validating and verifying information, processing and maintaining information, and disclosing and providing information, to train personnel and to be able to respond to a collection of information, to search data sources, to complete and review the collection of information, and to transmit or otherwise disclose the information. The total annual burden hours estimated for this ICR are summarized in the table below.

Total Estimated Annualized Burden—Hours
Respondent | Form | Number of respondents | Number of responses per respondent | Average burden per response (in hours) | Total burden hours
MFCU | Annual Report | 50 | 1 | 88 | 4,400
MFCU, estimating a “medium” ¹ level of State participation in data mining activities | Annual Report, data mining reporting only | 13 | 1 | 1 | 13
MFCU | Recertification Application | 50 | 1 | 5 | 250
Total |  | 50 | 2 | 94 | 4,663
¹ For medium participation, we estimate 25 percent of the 50 MFCUs participating, or 13 Units.

Darius Taylor,
Deputy, Information Collection Clearance Officer.

[FR Doc. 2013-30988 Filed 12-26-13; 8:45 am]

BILLING CODE 4152-01-P